DEPARTMENT OF THE INTERIOR

Bureau of Land Management

[ES-956-1910-BK], Group 178, Minnesota

Eastern States: Filing of Plat of Survey

AGENCY: Bureau of Land Management, Interior.

ACTION: Notice of Filing of Plat of Survey; Minnesota.

SUMMARY: The Bureau of Land Management (BLM) will file the plat of survey of the lands described below in the BLM-Eastern States, Springfield, Virginia, 30 calendar days from the date of publication in the Federal Register.

FOR FURTHER INFORMATION CONTACT: Bureau of Land Management, 7450 Boston Boulevard, Springfield, Virginia 22153. Attn: Cadastral Survey.

SUPPLEMENTARY INFORMATION: The survey was requested by the Bureau of Indian Affairs.

The land we surveyed are:

Fifth Principal Meridian, Minnesota

T. 144 N., R. 37 W

The plat of survey represents the dependent resurvey and subdivision of section 33, Township 144 North, Range 37 West, of the Fifth Principal Meridian, in the State of Minnesota, and was accepted June 19, 2008.

We will place a copy of the plat we described in the open files. It will be available to the public as a matter of information. If BLM receives a protest against this survey, as shown on the plat, prior to the date of official filing, we will stay the filing pending our consideration of the protest. We will not officially file the plat until the day after we accepted or dismissed all protests and they have become final, including decisions on appeals. Copies of the plat will be made available upon request and prepayment of the reproduction fees.

Dated: July 2, 2008.
Joseph W. Beaudin,
Acting Chief Cadastral Surveyor.

[FR Doc. E8-15692 Filed 7-9-08; 8:45 am]

BILLING CODE 4310-GJ-P